DEPARTMENT OF TRANSPORTATION

Federal Aviation Administration

Notice of Intent To Rule on Change in Use of Aeronautical Property at Laurinburg-Maxton Airport, Maxton, NC

AGENCY: Federal Aviation Administration (FAA), DOT.

ACTION: Notice

SUMMARY: The Federal Aviation Administration (FAA) is requesting public comment on a request by the Laurinburg-Maxton Airport Commission, on behalf of the airport Sponsor (the City of Laurinburg and the Town of Maxton), to change a portion of airport property from aeronautical to non-aeronautical use at the Laurinburg-Maxton Airport. The request consists of release of approximately 1.72 acres to Mr. William J. Martin for use in conjunction with his existing business, Martin Transport. Martin Transport currently borders the property.

DATES: Comments must be received on or before April 30, 2018.

ADDRESSES: Comments on this notice may be mailed or delivered in triplicate to the FAA at the following address: Memphis Airports District Office, Attn: Ja'Monta Smith, Program Manager, 2600 Thousand Oaks Boulevard, Suite 2250, Memphis, TN 38118.

In addition, one copy of any comments submitted to the FAA must be mailed or delivered to Ms. Joanne Gentry, Executive Director for Laurinburg-Maxton Airport Commission at the following address: 16701 Airport Road, Maxton, NC 28364.

FOR FURTHER INFORMATION CONTACT: Ja'Monta Smith, Program Manager, Federal Aviation Administration, Memphis Airports District Office, 2600 Thousand Oaks Boulevard, Suite 2250, Memphis, TN 38118-2482.

The application may be reviewed in person at this same location, by appointment.

SUPPLEMENTARY INFORMATION: The FAA proposes to rule and invites public comment on the request to release property for non-aeronautical purposes at Laurinburg-Maxton Airport, Maxton, NC under the provisions of 49 U.S.C. 47107(h)(2). The FAA determined that the request to release property at Laurinburg-Maxton Airport (MEB) submitted by the Laurinburg-Maxton Airport Commission on behalf of the City of Laurinburg and the Town of Maxton meets the procedural requirements of the FAA and the release of the property does not and will not impact future aviation needs at the airport. The FAA may approve the request, in whole or in part, no sooner than thirty days after the publication of this notice. This action is taken under the provisions of 49 U.S.C. 47151.

The following is a brief overview of the request:

The Laurinburg-Maxton Airport Commission on behalf of the City of Laurinburg and the Town of Maxton is proposing the release of approximately 1.72 acres to Mr. William J. Martin for use in conjunction with his existing business, Martin Transport. Martin Transport currently borders the property. This property is located at the intersection of Airport Road and Skyway Church Road in Scotland County, NC. The property is separated from the majority of airport property by other parcels of land owned by others.

Any person may inspect, by appointment, the request in person at the FAA office listed above under FOR FURTHER INFORMATION CONTACT.

Issued in Memphis, TN, on March 23, 2018.
Phillip Braden,
Manager, Memphis Airports District Office, Southern Region.

[FR Doc. 2018-06406 Filed 3-29-18; 8:45 am]

BILLING CODE P